DEPARTMENT OF JUSTICE

Antitrust Division

Notice Pursuant to the National Cooperative Research and Production Act of 1993—Semiconductor Equipment and Materials International (“SEMI”)

Notice is hereby given that, on July 3, 2002, pursuant to Section 6(a) of the National Cooperative Research and Production Act of 1993, 15 U.S.C. 4301 et seq. (“the Act”), Semiconductor Equipment and Materials International (“SEMI”) has filed written notifications simultaneously with the Attorney General and the Federal Trade Commission disclosing changes in its membership status. The notifications were filed for the purpose of extending the Act's provisions limiting the recovery of antitrust plaintiffs to actual damages under specified circumstances. Specifically, Asyst Technologies, Inc., Fremont, CA acquired Domainlogix, Austin, TX and has changed its name to Asyst Connectivity Technologies, Inc., Austin, TX.

No other changes have been made in either the membership or planned activity of the group research project. Membership in this group research project remains open, and SEMI intends to file additional written notification disclosing all changes in membership.

On January 8, 2002, SEMI filed its original notification pursuant to Section 6(a) of the Act. The Department of Justice published a notice in the Federal Register pursuant to Section 6(b) of the Act on March 8, 2002 (67 FR 10762).

Constance K. Robinson,
Director of Operations, Antitrust Division.

[FR Doc. 02-20415 Filed 8-12-02; 8:45 am]

BILLING CODE 4410-11-M